DEPARTMENT OF THE INTERIOR

Bureau of Ocean Energy Management, Regulation and Enforcement

[Docket No. BOEM-2011-0005]

Commercial Leasing for Wind Power on the Outer Continental Shelf Offshore New Jersey—Call for Information and Nominations

AGENCY: Bureau of Ocean Energy Management, Regulation and Enforcement (BOEMRE), Interior.

ACTION: Call for Information and Nominations for Commercial Leasing for Wind Power on the Outer Continental Shelf Offshore New Jersey.

SUMMARY: The Bureau of Ocean Energy Management, Regulation and Enforcement (BOEMRE) invites the submission of nominations for one or more commercial leases for the construction of a wind energy project(s) on the Outer Continental Shelf (OCS) offshore New Jersey. Although this announcement is not itself a leasing announcement, the area described herein may be subject to future leasing, and BOEMRE will use the response to this Call for Information and Nominations (Call) to gauge specific interest in acquiring commercial wind lease(s) in some or all of the area, and to determine whether competitive interest exists in any particular area as required by 43 U.S.C. 1337(p)(3). Parties wishing to submit a nomination in response to this Call should submit detailed and specific information as described below in the section entitled, “Required Nomination Information.”

This announcement also requests that interested and affected parties comment and provide information about site conditions, resources, and multiple uses within the area identified in this notice that would be relevant to BOEMRE's review of the nominations submitted and subsequent decision to offer all or part of the area for commercial wind leasing. The information that BOEMRE is requesting is described below in the section entitled, “Requested Information from Interested or Affected Parties.”

This notice is published pursuant to subsection 8(p)(3) of the OCS Lands Act, which was added by section 388 of the Energy Policy Act of 2005 (EPAct) (43 U.S.C. 1337(p)(3)), and the implementing regulations at 30 CFR Part 285.

The area under consideration for commercial leasing is located off the coast of New Jersey, beginning approximately 7 nautical miles (nmi) from the shore, extending roughly 23 nmi seaward to the approximate 100 ft depth contour, and extending 45 nmi parallel to the Federal/State boundary between Avalon and Barnegat Light. This area is approximately 418 square nmi and contains approximately 43 whole OCS blocks and 34 partial OCS blocks. This area was delineated in consultation with the BOEMRE/New Jersey Renewable Energy Task Force and has been identified as a Wind Energy Area (WEA) as referenced and described in the Secretary's announcement of the Department's “Smart from the Start” offshore wind energy initiative. A detailed description of the area and its development is found later in this notice.

DATES: BOEMRE must receive your nomination describing your interest in this potential commercial leasing area no later than June 6, 2011 for your nomination to be considered. BOEMRE requests comments or other submissions of information by this same date. BOEMRE will consider only the nominations we receive by that time.

Submission Procedures: You may submit your nominations, comments, and information by one of two methods:

1. Federal eRulemaking Portal: http://www.regulations.gov. In the entry titled “Enter Keyword or ID,” enter BOEM-2011-0005, then click “search.” Follow the instructions to submit public comments and view supporting and related materials available for this notice. BOEMRE will post all comments which are not labeled “Contains Confidential Information.”

2. By mail, sending your nominations, comments, and information to the following address: Bureau of Ocean Energy Management, Regulation and Enforcement, Office of Offshore Alternative Energy Programs, 381 Elden Street, Mail Stop 4090, Herndon, Virginia 20170. Nominations submitted by mail must be postmarked by June 6, 2011 to be considered by BOEMRE for the purposes of determining competitive interest. All responses will be reported on regulations.gov.

If you wish to protect the confidentiality of your nominations or comments, clearly mark the relevant sections and request that BOEMRE treat them as confidential. Please label privileged or confidential information “Contains Confidential Information” and consider submitting such information as a separate attachment. Treatment of confidential information is addressed in the section of this Call entitled, “Protection of Privileged or Confidential Information.” Information that is not labeled as privileged or confidential will be regarded by BOEMRE as suitable for public release.

FOR FURTHER INFORMATION CONTACT: William Waskes, Project Coordinator, BOEMRE, Office of Offshore Alternative Energy Programs, 381 Elden Street, Mail Stop 4090, Herndon, Virginia 20170, (703) 787-1300.

SUPPLEMENTARY INFORMATION:

Purpose of the Call for Information and Nominations

The OCS Lands Act requires BOEMRE to award leases competitively, unless BOEMRE makes a determination that there is no competitive interest (43 U.S.C. 1337(p)(3)). The issuance of this notice is not intended to indicate that BOEMRE has determined that competitive interest exists in the area identified. Rather, this notice is the first step in the renewable energy leasing process offshore New Jersey and the responses to it will assist BOEMRE in determining if there is no competitive interest in the area identified. This notice also requests information from interested and affected parties on issues relevant to BOEMRE's review of nominations for potential leasing in the area identified.

BOEMRE is issuing a Call instead of a Request for Interest (RFI) to facilitate and expedite the leasing process in keeping with the goals and objectives of the Secretary of the Interior's “Smart from the Start” initiative. If an RFI were issued and the responses to it indicated competitive interest, the applicable regulations would require BOEMRE to issue a Call, which BOEMRE believes would be duplicative of the RFI process and, therefore, unnecessary and inefficient. Issuance of this Call, without an RFI, is designed to enable BOEMRE to analyze information needed to support appropriate commercial leasing, while ensuring ample opportunity for input from interested and affected parties.

The responses to this Call could lead to the initiation of a competitive process in some areas (i.e., where competition exists for certain tracts), and a noncompetitive process in others (where no competitive interest exists in certain tracts). The leasing process is described more completely under “Competitive Leasing Process” and “Noncompetitive Leasing Process,” below. If BOEMRE determines that there is no competitive interest in some or all of this area offshore New Jersey, BOEMRE may proceed with the noncompetitive lease process pursuant to 30 CFR 285.232 of the Renewable Energy and Alternate Uses (REAU) of Existing Facilities on the OCS Final Rule for any area(s) where no competitive interest exists. If BOEMRE determines that there is competitive interest in some or all of this area offshore New Jersey, BOEMRE may proceed with Area Identification, as set forth in 30 CFR 285.211(b), and the competitive leasing process set forth under 30 CFR 285.211 through 285.225. Whether the leasing process would be competitive or noncompetitive, it would (1) include additional opportunities for the public to provide input; (2) be reviewed thoroughly for potential environmental and multiple use impacts; and (3) and be conducted in conformance with all applicable laws and regulations. The area that may be offered for lease, if any, has not been determined and may be reduced from the area identified in this Call.

Background

Energy Policy Act of 2005

The EPAct amended the OCS Lands Act by adding subsection 8(p)(1)(c), which authorizes the Secretary of the Interior to grant leases, easements, or rights-of-way (ROWs) on the OCS for activities that are not otherwise authorized by law and that produce or support production, transportation, or transmission of energy from sources other than oil or gas. The EPAct also required the issuance of regulations to carry out the new authority pertaining to renewable energy on the OCS. The Secretary delegated this authority to issue leases, easements, and ROWs, and to promulgate regulations to the Director of BOEMRE. On April 29, 2009, BOEMRE promulgated the REAU rule, which can be found at: http://www.boemre.gov/offshore/RenewableEnergy/PDF/FinalRenewableEnergyRule.pdf.

Interim Policy

After the passage of EPAct, BOEMRE moved forward with allowing limited activities related to the development of renewable energy projects on the OCS while finalizing the REAU rulemaking. BOEMRE created and published an Interim Policy (IP) to allow the issuance of leases to assess the renewable energy resource potential on the OCS and evaluate new technology. The IP governed the issuance of leases for the installation of offshore data collection and technology testing facilities on the OCS until the promulgation of the REAU rule. Leases issued under the IP have terms of five years and do not permit the testing of wind turbine generators.

The IP lease issuance process began on November 6, 2007, when BOEMRE published in the Federal Register a Request for Information and Nominations for IP leases. Subsequently, BOEMRE published a listing of the locations described in the responses to the Request for Information and Nominations in the Federal Register in order to determine if there was competitive interest in the proposed IP lease areas. After considering responses received to the second Federal Register notice, BOEMRE determined that there was no competitive interest in any of the proposed IP lease areas and decided to proceed with the noncompetitive leasing process for the IP leases. Six areas on the OCS ranging from 8 to 21 nmi offshore of the coast of New Jersey were nominated by three developers. BOEMRE received applications for the construction of meteorological towers and other site assessment activities on the OCS for four of the six proposed lease areas from Deepwater Wind LLC (2 lease areas), Bluewater Wind New Jersey Energy LLC and Fishermen's Energy of New Jersey (FERN). After a thorough environmental review, BOEMRE offered four leases in June 2009 and executed three IP leases offshore New Jersey, one to each of the three developers listed above, in November 2009. The specific locations of these IP leases are provided under the section entitled, “Existing Interim Policy Leases Offshore New Jersey.” The installation of meteorological towers or meteorological buoys is anticipated to begin in mid-2011.

Executive Order 13547: Stewardship of the Ocean, Our Coasts, and the Great Lakes

On July 19, 2010, the President signed Executive Order 13547 establishing a national ocean policy and the National Ocean Council (75 FR 43023). The Order establishes a comprehensive, integrated national policy for the stewardship of the ocean, our coasts and the Great Lakes. Where BOEMRE actions affect the ocean, the Order requires BOEMRE to take such action as necessary to implement this policy, the stewardship principles and national priority objectives adopted by the Order, and guidance from the National Ocean Council.

BOEMRE appreciates the importance of coordinating its planning endeavors with other OCS users and regulators and intends to follow principles of coastal and marine spatial planning, and coordinate with the regional planning bodies as established by the National Ocean Council to inform its leasing processes. BOEMRE anticipates that continued coordination with the State Renewable Energy Task Forces will help inform comprehensive coastal and marine spatial planning efforts.

Actions Taken by the State of New Jersey in Support of Renewable Energy Development

BOEMRE recognizes the importance of the steps that the state of New Jersey has taken to encourage and incentivize offshore wind energy development. While a state may promote such development through activities such as the creation of financial incentives, it is important to note that an offshore wind project cannot be sited on the OCS without an OCS renewable energy lease issued by BOEMRE pursuant to 30 CFR part 285, as described in this Call. Below is a description of the activities that the state has undertaken to support renewable energy development off its coast.

In April 2006, the New Jersey Blue Ribbon Panel (BRP) on the Development of Wind Turbine Facilities in Coastal Waters issued a final report to the Governor. The BRP considered the need for offshore wind turbines to supply renewable energy to state consumers, and compared the potential from offshore wind power to other electric power sources, including fossil, nuclear and renewable fuels, as part of the state's long-term electricity needs. Recommendation (5) of the panel called for the New Jersey Board of Public Utilities (BPU) to proceed with a limited test project, not to exceed 350 megawatts (MW), to obtain practical knowledge of benefits and impacts resulting from offshore wind turbine facilities. The New Jersey BPU issued a request for proposals for the development of a 350 MW capacity wind power project on the OCS, and solicited interest in obtaining financial grants of up to $19 million from the state to support the financing of offshore wind power projects. Five proposals were submitted. In October 2008, the State of New Jersey selected Garden State Offshore Energy LLC (GSOE), a joint venture of Deepwater Wind LLC and Public Service Enterprise Group (PSEG), as the winner of the grant funds solicitation. However, to date, no contract for transferring the grant funds has been executed based on the solicitation. Rather, to encourage development necessary to achieve the Offshore Wind (OSW) goals in the State of New Jersey's 2008 Energy Master Plan (EMP), the BPU reexamined the approach described above and instead designed a rebate program that could reimburse OSW developers for the costs associated with constructing meteorological towers on the OCS offshore New Jersey. This rebate program would provide financial incentives for multiple simultaneous projects on the OCS offshore New Jersey. The BPU authorized this rebate program on November 26, 2008. On January 8, 2009, the BPU issued an Order approving three rebate applications for offshore wind meteorological towers submitted by Bluewater Wind, GSOE, and FERN, which will allow these developers to recover costs associated with constructing meteorological towers on the OCS offshore New Jersey. On August 18, 2010, two of the rebate applications were modified by the BPU to grant rebates for the cost associated with construction of meteorological buoys instead of meteorological towers.

The BRP also advised through recommendation (6) that the test project needed “* * * to be preceded by scientific baseline studies that collect basic data about the existence, location and nature of New Jersey's offshore natural resources * * *” Accordingly, recommendation (4) of the BRP called for the State to conduct baseline studies of New Jersey's coastal waters to, in part, develop spatial and temporal information regarding ocean uses and living natural resources and assess tourism and related economic sectors.

To comply with the BRP's recommendations, the New Jersey Department of Environmental Protection (NJDEP) released a Solicitation for Research Proposals for Ocean/Wind Power Ecological Baseline Studies (OWPEBS). To meet the project goal, baseline data were collected on birds, sea turtles, and marine mammals during an 18-month period and later expanded to a 24-month period to fill major data gaps identified for each group. The final OWPEBS was published in July 2010 and is available at: http://www.nj.gov/dep/dsr/ocean-wind/report.htm.

On August 18, 2010, Governor Christie signed the Offshore Wind Economic Development Act (Approved P.L.2010, c.57), which directs the BPU to establish an offshore wind renewable energy certificate (OREC) program. The OREC program requires that each electric power supplier and each basic generation service provider acquire a percentage of the kilowatt hours sold in New Jersey from offshore wind energy, such that at least 1,100 megawatts of generation from offshore wind projects will be supplied to state consumers. An entity seeking to construct an offshore wind project may submit an application to the Board for approval as a qualified offshore wind project eligible to earn ORECs. Financial assistance and tax credits, through the New Jersey Economic Development Authority (EDA), are also made available by the Act for businesses that construct manufacturing, assemblage, and water access facilities to support the development of qualified offshore wind projects in designated “wind energy zones.” (Reprint of Pub. L. 2010, c.57 available online at: http://www.njleg.state.nj.us/2010/Bills/PL10/57_.PDF).

The ability of private developers to take advantage of these state incentives for potential projects on the OCS offshore New Jersey would be dependent on the developers obtaining leases and subsequent approvals from BOEMRE for their proposed projects on the OCS.

BOEMRE/New Jersey Renewable Energy Task Force

BOEMRE formed the BOEMRE/New Jersey Renewable Energy Task Force for coordination among affected Federal agencies and state, local, and tribal governments throughout the leasing process. The BOEMRE/New Jersey Renewable Energy Task Force meeting materials are available on the BOEMRE Web site at: http://www.boemre.gov/offshore/RenewableEnergy/stateactivities.htm#NewJersey.

Secretary Salazar's “Smart From the Start” Atlantic Wind Initiative

Secretary Ken Salazar announced the “Smart from the Start” OCS renewable energy initiative on November 23, 2010. The area delineated in this notice has been identified as a Wind Energy Area (WEA) as defined in BOEMRE's Notice of Intent to Prepare an Environmental Assessment for Mid-Atlantic Wind Energy Areas, 76 FR 7226 (February 9, 2011), and described in the Secretary's announcement. Relevant materials are available on the BOEMRE Web site at: http://www.boemre.gov/offshore/RenewableEnergy/SmartFromTheStart.htm.

A WEA is an OCS area that appears to be suitable for the consideration of wind energy development. The New Jersey WEA was delineated based on deliberation and consultation with the BOEMRE/New Jersey Renewable Energy Task Force and identified to be evaluated in a regional environmental assessment (EA). This regional EA will evaluate the environmental consequences associated with lease issuance and site assessment and site characterization activities in this WEA as well as WEAs offshore Delaware, Maryland, and Virginia. The borders of the New Jersey WEA may be adjusted in response to comments and information received during the Call comment period and the regional EA comment period. In addition, it may become appropriate to analyze one or more of the WEAs identified in the regional EA, including the WEA offshore New Jersey, in separate EAs.

BOEMRE will conduct several interagency consultations concurrently with the National Environmental Policy Act (NEPA) process associated with the “Smart from the Start” initiative. These consultations include, but are not limited to, those required by the Coastal Zone Management Act (CZMA), Endangered Species Act (ESA), Magnuson-Stevens Fishery Conservation and Management Act, National Historic Preservation Act (NHPA), Marine Mammal Protection Act (MMPA), and Executive Order 13175—“Consultation and Coordination with Tribal Governments.” These consultations would take place before the issuance of any leases.

If the regional EA finds that issuing leases in these areas and approving subsequent site assessment activities on these leases would constitute a major Federal action significantly affecting the quality of the human environment (42 U.S.C. 4332(c)), then BOEMRE would begin the process of preparing an environmental impact statement (EIS) to analyze the effects of lease issuance and site characterization and site assessment activities in those areas. If BOEMRE determines during the regional EA process that issuing leases and conducting site characterization and assessment activities in these WEAs would not result in significant environmental impacts, then BOEMRE would issue a Finding of No Significant Impact (FONSI). After either a FONSI is issued or the EIS process is completed, BOEMRE may issue one or more renewable energy leases in the WEAs in accordance with its determination of competitive interest, described in the following section of this Call. In the event that a particular lease is issued, and the lessee submits a Site Assessment Plan (SAP), BOEMRE will determine whether the regional EA adequately considers the environmental consequences of the activities proposed in the lessee's SAP. If the analysis in the regional EA adequately addresses these consequences, then no further NEPA would be required before the SAP is approved. If that analysis is inadequate, an additional NEPA analysis would be prepared before the SAP could be approved.

If and when a lessee is ready to propose construction and operations of a specific renewable energy facility, it would submit a Construction and Operation Plan (COP). If a COP is submitted for a particular leasehold, a separate NEPA analysis would be prepared analyzing the environmental consequences of the specific project proposed. This would likely take the form of an EIS and will provide additional opportunities for public involvement. Pursuant to 30 CFR Part 285, a lessee may only submit a COP once it has gathered the necessary information through site characterization and site assessment activities. Such an EIS process would provide Federal officials and the public with comprehensive site- and project-specific information regarding potential environmental impacts of the project that the lessee is proposing. These potential impacts would be taken into account when deciding whether to approve, approve with modification, or disapprove the construction and operation of a commercial wind facility.

Determination of Competitive Interest

The first step in determining whether there is no competitive interest in an area on the OCS for wind energy projects offshore New Jersey will be the evaluation of submissions describing nominations for particular areas of interest as suitable for commercial wind projects in response to this notice. At the conclusion of the comment period for this Call, BOEMRE will review the information received, undertake a completeness review and qualifications review of the nominations received, and make a determination as to whether competitive interest exists. BOEMRE will first determine whether there is any geographic overlap of the areas of interest.

If two areas of interest fully or partially overlap, BOEMRE will continue to proceed with the competitive lease process as described below. BOEMRE may consult with the BOEMRE/New Jersey Task Force throughout this process.

Situations may arise in which several parties nominate project areas that do not overlap. Under these circumstances, BOEMRE could choose to employ an allocation system of leases that involves the creation of competition across tracts. This system is referred to as intertract competition and will also be implemented under the competitive process outlined in the REAU rule. BOEMRE may consult with the BOEMRE/New Jersey Task Force in determining intertract competition.

Competitive Leasing Process

Following are the steps in the competitive process that would follow this Call, as described in 30 CFR 285.211 through 285.225:

(1) Area Identification: BOEMRE would identify areas for environmental analysis and consideration for leasing in discussion with appropriate Federal agencies, states, local governments, tribes and other interested parties based on the information submitted in response to this notice and the Notice of Intent to Prepare an Environmental Assessment for Mid-Atlantic Wind Energy Areas, described above.

(2) Proposed Sale Notice: BOEMRE would then publish the Proposed Sale Notice (PSN) in the Federal Register and send the PSN to any affected tribes, the State Historic Preservation Office, the Governor of any affected state and the executive of any local government that might be affected. The PSN would describe the areas offered for leasing and the proposed terms and conditions of a lease sale, including the proposed auction format, lease form and lease provisions. Additionally, the PSN would describe the criteria and process for evaluating bids. The PSN would be issued after completion of the final NEPA documentation, preparation of the Consistency Determination as required by the CZMA and its implementing regulations, and preparation of various analyses of proposed lease sale economic terms and conditions. The comment period following issuance of a PSN would be 60 days.

(3) Final Sale Notice: BOEMRE would then publish the Final Sale Notice (FSN) in the Federal Register at least 30 days before the date of the sale. Should BOEMRE proceed with a competitive auction to award leases, BOEMRE would use one of the following four auction formats to select the winner as described at 30 CFR 285.220: multiple-factor bidding; sealed bidding; ascending bidding; or two-stage bidding (a combination of ascending bidding and sealed bidding). BOEMRE would publish the criteria for winning bid determinations in the FSN.

(4) Bid Submission and Evaluation: Following publication of the FSN in the Federal Register, qualified bidders would be able to submit their bids to BOEMRE in accordance with procedures specified for the auction format to be used. The bids, including the bid deposits if applicable, would be checked for technical and legal adequacy. BOEMRE would evaluate the bids to determine if the bidder has complied with all applicable regulations. BOEMRE reserves the right to reject any or all bids and the right to withdraw an offer to lease an area from the sale.

As stated above, BOEMRE may consider using the multiple-factor auction format in addition to the three other auction formats described at 30 CFR 285.220. If BOEMRE were to use a multiple-factor auction format, the evaluation of bids would be made by a panel composed of members selected by BOEMRE, and factors that BOEMRE may choose to include in the auction could be selected from a wide array of options. Factors that BOEMRE may consider for inclusion in this auction process are: Demonstration of prior diligence in the proposed Call area and in working with the state; lease revenues; technical merit; project experience; credit and security; power purchase arrangements; timeliness; financing and economics; environmental considerations; public benefits; and compatibility with state and local needs. Other factors based on the New Jersey Offshore Wind Economic Development Act may also receive consideration by BOEMRE. These factors would be identified in the FSN.

If BOEMRE were to use a multiple-factor auction format, it is possible that a negotiation stage may be included in the bid assessment criteria, to be used if it becomes necessary to modify a proposal prior to acceptance. BOEMRE would coordinate with the State of New Jersey and other stakeholders, as appropriate, to establish procedures designed to assure the selection of the most worthy proposal that would provide a fair return to the United States pursuant to subsection 8(p) of the OCS Lands Act, as amended by Section 388 of the EPAct (43 U.S.C. 1337(p)(3)).

(5) Issuance of a Lease: Following the selection of a winning bid by BOEMRE, the submitter would be notified of the decision and provided a set of official lease forms for execution. The successful bidder would be required to execute the lease, pay the remainder of the bonus bid, if applicable, and file the required financial assurance within 10 days of receiving the lease copies. Upon receipt of the required payments, financial assurance, and properly executed lease forms, BOEMRE would issue a lease to the successful bidder.

Noncompetitive Leasing Process

If, after evaluating the responses to this notice, BOEMRE determines that there is no competitive interest in a proposed lease area, it may proceed with the noncompetitive lease issuance process pursuant to 30 CFR 285.232, consulting with the BOEMRE/New Jersey Task Force, as appropriate. BOEMRE would ask if the respondent wants to proceed with acquiring the lease, and if so, the respondent must submit an acquisition fee as specified within 30 CFR 285.502(a). After receiving the acquisition fee, BOEMRE would follow the process outlined in 30 CFR 285.231(b) through (i), which would entail publication of a Notice of Proposed Lease Area and Request for Competitive Interest (RFCI) for the proposed area considered for noncompetitive leasing. If the RFCI results in no indications of competitive interest, BOEMRE would publish a notice in the Federal Register announcing a determination of no competitive interest. Within 60 days of the date of that notice, the respondent would be required to submit a Site Assessment Plan (SAP), as described in 30 CFR 285.231(d)(2)(i).

BOEMRE will comply with the requirements of NEPA, CZMA, ESA, NHPA, MMPA, and other applicable Federal statutes when in the process of issuing a lease noncompetitively. BOEMRE would coordinate and consult, as appropriate, with relevant Federal agencies, affected tribes, and affected state and local governments, in issuing a noncompetitive lease and developing lease terms and conditions.

It is possible that responses to this notice may result in a determination that there is competitive interest for some areas but not for others. BOEMRE will announce publicly its determinations before proceeding with a competitive process, a noncompetitive process, or both.

Description of the Area

The Call area offshore New Jersey contains 43 whole OCS blocks and 34 partial blocks. The boundary begins 7 nmi from the shore and extends roughly 23 nmi seaward. It extends from southwest to northeast approximately 45 nmi between Avalon and Barnegat Light. The entire area is approximately 418 square nautical miles.

The following 43 full OCS blocks are included within the Call area: Wilmington NJ18-02 Blocks 6439, 6488, 6489, 6539, 6588, 6637, 6638, 6687, 6688, 6689, 6736, 6737, 6738, 6739, 6740, 6786, 6787, 6788, 6789, 6836, 6837, 6838, 6886, 6887, 6933, 6934, 6935, 6936, 6983, 6984, 6985, 7032, 7033, 7034, 7080, 7081, 7082, 7083, 7131, 7132; Salisbury NJ18-05 Blocks 6031, 6032, and 6081. In addition, parts of the following 34 OCS blocks are included within the area of interest: Wilmington NJ18-02 Blocks 6389, 6438, 6589, 6636, 6639, 6735, 6784, 6785, 6790, 6833, 6834, 6835, 6839, 6840, 6883, 6884, 6885, 6888, 6889, 6931, 6932, 6937, 6938, 6982, 6986, 6987, 7030, 7031, 7035, 7036, 7084, 7085, 7133, and 7134 as described in the table below.

List of Partial OCS Blocks in the Call Area
Protraction name | Protraction No. | Block No. | Sub block
Wilmington | NJ18-02 | 6389 | C, D, G, H, K, L, O, P
Wilmington | NJ18-02 | 6438 | D, G, H, K, L, O, P
Wilmington | NJ18-02 | 6589 | A, B, C, D, E, F, G, H, I, J, K, L, M, N
Wilmington | NJ18-02 | 6636 | C, D, G, H
Wilmington | NJ18-02 | 6639 | A, B, E, F, I, J, M, N, O, P
Wilmington | NJ18-02 | 6735 | C, D, G, H, K, L, O, P
Wilmington | NJ18-02 | 6784 | K, L, O, P
Wilmington | NJ18-02 | 6785 | C, D, G, H, I, J, K, L, M, N, O, P
Wilmington | NJ18-02 | 6790 | A, B, C, D, E, F, G, H, I, J, K, M, N
Wilmington | NJ18-02 | 6833 | C, D, F, G, H, I, J, K, L, M, N, O, P
Wilmington | NJ18-02 | 6834 | C, D, I, M, N
Wilmington | NJ18-02 | 6835 | A, B, C, D, E, F, G, H, J, K, L, O, P
Wilmington | NJ18-02 | 6839 | A, B, C, D, E, F, G, H, I, J, K, M, N
Wilmington | NJ18-02 | 6840 | A
Wilmington | NJ18-02 | 6883 | A, B, E, F, I, J, M, N
Wilmington | NJ18-02 | 6884 | A, B, E, F, G, I, J, K, L, M, N, O, P
Wilmington | NJ18-02 | 6885 | C, D, G, H, I, J, K, L, M, N, O, P
Wilmington | NJ18-02 | 6888 | A, B, C, D, E, F, G, H, I, J, K, M, N, O
Wilmington | NJ18-02 | 6889 | A
Wilmington | NJ18-02 | 6931 | H, K, L, N, O, P
Wilmington | NJ18-02 | 6932 | A, B, C, D, E, F, G, H
Wilmington | NJ18-02 | 6937 | A, B, C, D, E, F, G, H, I, J, K, L, M, N, O
Wilmington | NJ18-02 | 6938 | A, B, E
Wilmington | NJ18-02 | 6982 | I, J, K, L, M, N, O, P
Wilmington | NJ18-02 | 6986 | A, B, C, D, E, F, G, H, I, J, K, L, M, N, O
Wilmington | NJ18-02 | 6987 | A, B, E
Wilmington | NJ18-02 | 7030 | B, C, D, E, F, G, H, I, J, K, L, M, N, O, P
Wilmington | NJ18-02 | 7031 | I, J, K, L, M, N, O, P
Wilmington | NJ18-02 | 7035 | A, B, C, D, E, F, G, H, I, J, K, L, M, N, O
Wilmington | NJ18-02 | 7036 | A, B, E
Wilmington | NJ18-02 | 7084 | A, B, C, D, E, F, G, H, I, J, K, L, M, N, O
Wilmington | NJ18-02 | 7085 | A, B, E
Wilmington | NJ18-02 | 7133 | A, B, C, D, E, F, G, H, I, J, K, L, M, N, O
Wilmington | NJ18-02 | 7134 | A, B, E

Map of the Call Area

A map of the area and a table of the Call boundary coordinates in X, Y (eastings, northings) UTM Zone 18, NAD83 Datum and geographic X, Y (longitude, latitude), NAD83 Datum can be found at the following URL: http://www.boemre.gov/offshore/RenewableEnergy/stateactivities.htm#New Jersey. A large scale map of the Call area showing boundaries of the area with numbered blocks is available from BOEMRE at the following address: Bureau of Ocean Energy Management, Regulation and Enforcement, Office of Offshore Alternative Energy Programs, 381 Elden Street, Mail Stop 4090, Herndon, Virginia 20170, Phone: (703) 787-1300, Fax: (703) 787-1708.

Development of the Call Area

The Call area was delineated through consultation with the BOEMRE/New Jersey Renewable Energy Task Force and is intended to provide for the protection of ecologically sensitive areas and minimize user conflicts while making an appropriate area available for commercial offshore wind development. Specific mitigation, stipulations, or exclusion areas may be developed as a result of environmental reviews and associated consultations, as well as continued coordination through the BOEMRE/New Jersey Renewable Energy Task Force, and applied at the leasing and/or at the construction and operations stages. Issues raised through consultation with the BOEMRE/New Jersey Task Force and areas where site-specific stipulations may be required, are described below.

Results of New Jersey's Ocean/Wind Power Ecological Baseline Studies

The New Jersey WEA and Call area was developed using the boundary of New Jersey's Ocean/Wind Power Ecological Baseline Studies (OWPEBS) as a base. The results of the OWPEBS (http://www.nj.gov/dep/dsr/ocean-wind/report.htm) helped to identify areas that may not be suitable for development, based on features ranging from physical obstructions and usages to the presence and density of biological resources including avian populations and aquatic habitat. Areas that were removed from consideration include:

• The northern portion of the OWPEBS area, which includes a major shipping lane and additional telecommunications cables. High bird densities are also present in this area due to a number of shoals and artificial underwater features, which have shown to be positively correlated with avian populations.

• The southernmost section of the OWPEBS area where a large number of shoals and biological resources are concentrated (e.g. birds, marine mammals, sea turtles), which increases the area's sensitivity to development and includes Marine Protected Areas (MPAs) and Essential Fish Habitat (EFH).

• The state boundary to 7 nmi line where the OWPEBS identified that avian density markedly decreased moving from inshore to offshore, with a steep decline observed at approximately 7 nmi. The area from the state boundary to the 7 nmi limit is excluded due to high avian densities, as well as for the numerous shipwrecks, reefs, and shoals that tend to occur in this zone, in addition to higher human activity from recreational and commercial vessels (e.g. the Tug Barge Transit Route roughly follows this 7 nmi line).

Additional areas of exclusion were determined using the environmentally sensitive categories defined in the OWPEBS, which are listed below in order of priority. The areas removed from consideration from the area are primarily based on the first four categories.

1. No Build Areas (i.e. shipping lanes, traffic separation schemes (TSS), pipelines and cables, artificial reefs, and shipwrecks)—Development is excluded in blocks containing some of these features (e.g., shipping lanes) since they would directly and adversely affect shipping. Buffer areas may also be required to avoid impacts.

2. Shoals—Should be avoided since they function as feeding grounds and nurseries for various pelagic and bottom-dwelling species, as well as serve as fishing/feeding hotspots for recreational and commercial fishermen, birds, sea turtles and marine mammals.

3. High Avian Densities—Areas with high avian densities are mostly concentrated in state waters along the coast. However, some hotspots can be found offshore, usually associated with shoals or other unique bottom features and/or oceanographic dynamics. Adverse effects may occur due to the greater potential for in-flight mortality due to collisions with wind turbines, avoidance behaviors caused by the disturbance/presence of turbines and/or disturbance of bottom features.

4. Distance from Shore—The results of the OWPEBS found that birds, certain marine mammals and other resources occur in higher densities closer to shore. As stated above, bird activity decreases markedly beyond 7 nmi from the coast. Therefore, some environmental impacts would generally be expected to be reduced with increasing distance from the shoreline.

5. Fishing Hot Spots—Although usually associated with shoals, other natural and artificial bottom features can contribute to fisheries productivity, and should be avoided when possible.

6. Marine Mammals and Sea Turtles—As shown in the OWPEBS, marine mammal and sea turtles densities are roughly evenly distributed throughout the study area, and low in number (with the exception of dolphins). However, marine mammal and sea turtle densities are often found to be higher near underwater features such as shoals and ridges.

7. Essential Fish Habitat (EFH)—EFHs, although not well defined in the study area, are present for numerous fish species, and are known to use the area during all or some life stages. In some cases, EFHs in the Study Area overlap (especially in the South), increasing impact potential.

Traffic Separation Scheme

The area analyzed in the OWPEBS encompassed a portion of the Traffic Separation Scheme (TSS) in the approaches to New York and a traditional transit route utilized by tugs and barge operators. Based on recommendations by the U.S. Coast Guard, and considering the lack of information currently available to assess vessel traffic types, densities, and routing direction of vessels leaving the TSS, BOEMRE determined that OCS blocks within and directly south of the TSS should not be included in the area identified in this notice. OCS blocks within one nautical mile of an identified traditional tug and barge transit route were also removed from consideration.

Department of Defense Activities

The Department of Defense (DOD) conducts offshore testing, training, and operations on the OCS. The area was refined based on DOD assessments of compatibility between commercial offshore wind development and DOD testing, training and operations. OCS Blocks determined to be incompatible with these activities were removed from consideration.

Department of Defense Potential Stipulations

BOEMRE is aware that portions of the area lie within OCS blocks where site specific conditions and stipulations may need to be developed to ensure that projects are compatible with DOD activities. The DOD may request site specific stipulations in the following 28 whole lease blocks: Wilmington NJ18-02 Blocks 6638, 6688, 6689, 6737, 6738, 6739, 6740, 6786, 6787, 6788, 6789, 6836, 6837, 6838, 6886, 6887, 6934, 6935, 6936, 6983, 6984, 6985, 7032, 7033, 7034, 7081, 7082, and 7083. In addition, parts of the following 34 blocks may require site specific stipulations: Wilmington NJ18-02 Blocks 6489, 6539, 6588, 6589, 6637, 6639, 6687, 6736, 6785, 6790, 6835, 6839, 6840, 6884, 6885, 6888, 6889, 6933, 6937, 6938, 6982, 6986, 6987, 7031, 7035, 7036, 7080, 7084, 7085, 7131, 7132, 7133, 7134; and Salisbury NJ18-05 Block 6032 as described in the table below.

OCS Partial Blocks Subject to DOD Site Specific Stipulations
Protraction name | Protraction No. | Block No. | Sub block
Wilmington | NJ18-02 | 6489 | H, L, O, P
Wilmington | NJ18-02 | 6539 | B, C, D, F, G, H, I, J, K, L, M, N, O, P
Wilmington | NJ18-02 | 6588 | D, G, H, J, K, L, N, O, P
Wilmington | NJ18-02 | 6589 | A, B, C, D, E, F, G, H, I, J, K, L, M, N
Wilmington | NJ18-02 | 6637 | L, O, P
Wilmington | NJ18-02 | 6639 | A, B, E, F, I, J, M, N, O, P
Wilmington | NJ18-02 | 6687 | B, C, D, F, G, H, I, J, K, L, M, N, O, P
Wilmington | NJ18-02 | 6736 | D, G, H, K, L, N, O, P
Wilmington | NJ18-02 | 6785 | L, O, P
Wilmington | NJ18-02 | 6790 | A, B, C, D, E, F, G, H, I, J, K, M, N
Wilmington | NJ18-02 | 6835 | C, D, F, G, H, J, K, L, O, P
Wilmington | NJ18-02 | 6839 | A, B, C, D, E, F, G, H, I, J, K, M, N
Wilmington | NJ18-02 | 6840 | A
Wilmington | NJ18-02 | 6884 | A, G, K, L, M, N, O, P
Wilmington | NJ18-02 | 6885 | C, D, G, H, I, J, K, L, M, N, O, P
Wilmington | NJ18-02 | 6888 | A, B, C, D, E, F, G, H, I, J, K, M, N, O
Wilmington | NJ18-02 | 6889 | A
Wilmington | NJ18-02 | 6933 | D, F, G, H, I, J, K, L, M, N, O, P
Wilmington | NJ18-02 | 6937 | A, B, C, D, E, F, G, H, I, J, K, L, M, N, O, P
Wilmington | NJ18-02 | 6938 | A, B, E
Wilmington | NJ18-02 | 6982 | I, J, K, L, M, N, O, P
Wilmington | NJ18-02 | 6986 | A, B, C, D, E, F, G, H, I, J, K, L, M, N, O
Wilmington | NJ18-02 | 6987 | A, B, E
Wilmington | NJ18-02 | 7031 | I, J, K, L, M, N, O, P
Wilmington | NJ18-02 | 7035 | A, B, C, D, E, F, G, H, I, J, K, L, M, N, O
Wilmington | NJ18-02 | 7036 | A, B, E
Wilmington | NJ18-02 | 7080 | C, D, G, H, L
Wilmington | NJ18-02 | 7084 | A, B, C, D, E, F, G, H, I, J, K, L, M, N, O
Wilmington | NJ18-02 | 7085 | A, B, E
Wilmington | NJ18-02 | 7131 | B, C, D, G, H, L
Wilmington | NJ18-02 | 7132 | A, B, C, D, E, F, G, H, I, J, K, L, N, O, P
Wilmington | NJ18-02 | 7133 | A, B, C D, E, F, G, H, I, J, K, L, M, N, O
Wilmington | NJ18-02 | 7134 | A, B, E
Salisbury | NJ18-05 | 6032 | C, D, H

These stipulations could include but may not be limited to: Hold and save harmless agreements; mandatory coordination with DOD on specified activities; restrictions on electro-magnetic emissions; and evacuation procedures from the lease area for safety reasons when notified by the DOD.

Existing Interim Policy Leases Offshore New Jersey

On November 1, 2009, BOEMRE executed three IP leases within the Call area, which, pending submittal of an adequate project plan, authorize the construction, installation, and operation of meteorological towers or buoys for a term of five years, to three developers offshore New Jersey. The location of each lease, the name of lease holder and the lease number are listed below.

Interim Policy Leases Offshore New Jersey
Protraction name | Protraction No. | Block No. | Sub block | Lease holder | Lease No.
Wilmington | NJ18-02 | 6931 | H, K, L, N, O, P | Fishermen's Energy of New Jersey LLC | OCS-A-0473
Wilmington | NJ18-02 | 6936 |  | Bluewater Wind New Jersey Energy LLC | OCS-A-0475
Wilmington | NJ18-02 | 7033 |  | Deepwater Wind LLC | OCS-A-0472

These leases do not confer a right to develop a commercial offshore wind project. Rather, the leases grant the exclusive right, pending submittal of an adequate project plan, to conduct the activities authorized by their lease, which are limited to installing and operating facilities to characterize wind and environmental resources. The installation of meteorological towers or meteorological buoys on those leases is anticipated to begin in mid-2011 with lease expiration on November 1, 2014. Applicants should be aware that while an IP lease area can be nominated for commercial development, the IP lease holder's rights are preserved until the lease's expiration date. Electronic copies of the executed lease can be found at: http://www.boemre.gov/offshore/RenewableEnergy/Projects.htm

Required Nomination Information

If you intend to submit a nomination for a commercial lease from BOEMRE for the development of wind resources in the area(s) identified in this notice, you must provide the following:

(1) The BOEMRE Protraction name, number, and specific whole or partial OCS blocks or sub-blocks within the Call area that are of interest for commercial wind leasing, including any required buffer area. If your proposed project area includes one or more partial blocks please describe those partial blocks in terms of a sixteenth (i.e. sub-block) of an OCS block. Note that any nomination identifying areas greater than what would be reasonably necessary to develop a proposed commercial wind facility may not be considered as a valid nomination. In addition, BOEMRE will not consider any areas outside of the Call area in this process;

(2) A description of your objectives and the facilities that you would use to achieve those objectives, including: devices and infrastructure involved; anticipated power production and likely purchasers; a statement that the proposed activity conforms with state and local energy planning requirements, initiatives or guidance, as applicable;

(3) A schedule of proposed activities, including those leading to commercial operations;

(4) Available and pertinent data and information concerning renewable energy resources and environmental conditions in the Call area, including energy and resource data and information used to evaluate the Call area; and

(5) Documentation demonstrating that you are qualified to hold a lease as set forth in 30 CFR 285.107, including documentation demonstrating that you are technically and financially capable of constructing, operating, maintaining, and decommissioning the facilities described in (2) above. Guidance and examples of the appropriate documentation demonstrating your legal qualifications can be found in Chapter 2 and Appendix B of the BOMRE Renewable Energy Framework Guide Book available at: http://www.boemre.gov/offshore/RenewableEnergy/PDFs/REnGuidebook_ 03August2009_3_.pdf.

Guidance regarding how you may demonstrate your technical and financial qualifications can be found at: http://www.boemre.gov/offshore/RenewableEnergy/RegulatoryInformation.htm. Documentation you submit to demonstrate your legal, technical, and financial qualifications need to be provided to BOEMRE in both paper and electronic formats. BOEMRE considers an Adobe.pdf file stored on a compact disc (CD) to be an acceptable format for submitting an electronic copy.

It is critical that you submit a complete nomination so that BOEMRE may proceed with the commercial wind leasing process offshore New Jersey in a timely manner. If BOEMRE reviews your nomination and determines that it is incomplete, BOEMRE will inform you of this determination in writing. This letter will describe the information that BOEMRE determined to be missing from your nomination, and that you must submit in order for BOEMRE to deem your submission complete. You will be given 15 business days from the date of the letter to submit the information that BOEMRE found to be missing from your original submission. If you do not meet this deadline, or if BOEMRE determines this second submittal to be insufficient as well, then BOEMRE retains the right to deem your nomination invalid. In that case, BOEMRE would not continue processing your nomination submitted in response to this Call.

Note that the 15 business day compliance period referenced in the paragraph above does not apply to the process to legally qualify your company to hold an OCS renewable energy lease. BOEMRE will make a separate determination regarding whether the information you have submitted is sufficient for BOEMRE to determine whether you are legally qualified to hold a renewable energy lease. The 15 business day compliance period referenced in the paragraph above applies to the remainder of your documentation required under 1-5 above, including the information you should submit in order to demonstrate your technical and financial capability to construct, operate, maintain, and decommission your proposed facilities.

Requested Information From Interested or Affected Parties

BOEMRE is requesting specific and detailed comments describing the following conditions in the area identified:

(1) Geological conditions (including bottom and shallow hazards);

(2) Archeological and cultural resource sites on the seabed or nearshore;

(3) Historic properties potentially affected by commercial wind development in the area identified in this Call;

(4) Multiple uses of the area, including navigation (in particular, commercial and recreational vessel use), recreation, and fisheries (commercial and recreational);

(5) Other relevant socioeconomic, biological, and environmental information.

Protection of Privileged or Confidential Information

Freedom of Information Act

BOEMRE will protect privileged or confidential information that you submit as required by the Freedom of Information Act (FOIA). Exemption 4 of FOIA applies to trade secrets and commercial or financial information that you submit that is privileged or confidential. If you wish to protect the confidentiality of such information, clearly mark it and request that BOEMRE treat it as confidential. BOEMRE will not disclose such information, subject to the requirements of FOIA. Please label privileged or confidential information “Contains Confidential Information” and consider submitting such information as a separate attachment.

However, BOEMRE will not treat as confidential any aggregate summaries of such information or comments not containing such information. Additionally, BOEMRE will not treat as confidential (1) the legal title of the nominating entity (for example, the name of your company), or (2) the list of whole or partial blocks that you are nominating. Finally, information that is not labeled as privileged or confidential will be regarded by BOEMRE as suitable for public release.

Section 304 of the National Historic Preservation Act (16 U.S.C. 470w-3(a))

BOEMRE is required, after consultation with the Secretary, to withhold the location, character, or ownership of historic resources if it determines that disclosure may, among other things, risk harm to the historic resources or impede the use of a traditional religious site by practitioners. Tribal entities should designate information that falls under Section 304 of NHPA as confidential.

Dated: April 11, 2011.
Michael R. Bromwich,
Director, Bureau of Ocean Energy Management, Regulation and Enforcement.

[FR Doc. 2011-9545 Filed 4-19-11; 8:45 am]

BILLING CODE 4310-MR-P